DEPARTMENT OF TRANSPORTATION

Federal Aviation Administration

14 CFR Part 39

[Docket No. FAA-2013-1066; Directorate Identifier 2013-NM-021-AD]

RIN 2120-AA64

Airworthiness Directives; Airbus Airplanes

AGENCY: Federal Aviation Administration (FAA), DOT.

ACTION: Notice of proposed rulemaking (NPRM).

SUMMARY: We propose to supersede airworthiness directive (AD) 2000-12-12, for certain Airbus Model A300, A300-600, and A310 series airplanes. AD 2000-12-12 currently requires inspecting to detect cracks in the lower spar axis of the nacelle pylon between ribs 9 and 10, and repair if necessary. AD 2000-12-12 also provides for optional modification of the pylon, which terminates the inspections for Model A300 series airplanes. Since we issued AD 2000-12-12, we have received reports of cracking of the lower pylon spar after accomplishing the existing modification and have determined that shorter initial and repetitive inspection compliance times are necessary to address the identified unsafe condition. This proposed AD would reduce the initial and repetitive inspection compliance times. We are proposing this AD to detect and correct fatigue cracking, which could result in reduced structural integrity of the lower spar of the nacelle pylon.

DATES: We must receive comments on this proposed AD by February 13, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations,M-30, West Building Ground Floor, Room W12-140, 1200 New Jersey Avenue SE., Washington, DC, between 9 a.m. and 5 p.m., Monday through Friday, except Federal holidays.

For service information identified in this proposed AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Dan Rodina, Aerospace Engineer, International Branch, ANM-116, Transport Airplane Directorate, FAA, 1601 Lind Avenue SW., Renton, WA 98057-3356; telephone (425) 227-2125; fax (425) 227-1149.

SUPPLEMENTARY INFORMATION:

Comments Invited

We invite you to send any written relevant data, views, or arguments about this proposed AD. Send your comments to an address listed under the ADDRESSES section. Include “Docket No. FAA-2013-1066; Directorate Identifier 2013-NM-021-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On June 9, 2000, we issued AD 2000-12-12, Amendment 39-11790 (65 FR 39072, June 23, 2000). That AD required actions intended to address an unsafe condition on the products listed above. AD 2000-12-12 superseded AD 95-10-03, Amendment 39-9220 (60 FR 25604, May 12, 1995).

Since we issued AD 2000-12-12, Amendment 39-11790 (65 FR 39072, June 23, 2000), The European Aviation Safety Agency (EASA), which is the Technical Agent for the Member States of the European Community, has issued EASA Airworthiness Directive 2013-0016, dated September 17, 2013 (referred to after this as the Mandatory Continuing Airworthiness Information, or “the MCAI”), to correct an unsafe condition for the specified products. The MCAI states:

Cracks were found between ribs 9 and 10 in the lower pylon spar of A310 aeroplanes equipped with Pratt & Whitney (PW) engines.

For A310, A300 and A300-600 aeroplanes and, in order to prevent crack initiation, the implementation of a first inspection programme of this area was required by DGAC [Direction Générale de l'Aviation Civile] France AD 1992-049-130(B) [which corresponds to certain actions in FAA AD 2000-12-12, Amendment 39-11790 (65 FR 39072, June 23, 2000)], currently at Revision 4.

General Electric (GE) and PW pylons on A300 aeroplanes are also affected, due to similar design.

After that [DGAC] AD was issued, prompted by new findings, a specific inspection programme for A310 aeroplanes was introduced and required by DGAC France AD 1999-237-285(B) [which corresponds to certain actions in FAA AD 2000-12-12, Amendment 39-11790 (65 FR 39072, June 23, 2000)], which was subsequently superseded by EASA AD 2008-0008 [http://ad.easa.europa.eu/blob/easa_ad_2008_0008_superseded.pdf/AD_2008-0008_1], which introduced new thresholds and intervals in the frame of the A310 extended service goal exercise.

Some cracks, which were discovered after the implementation of the preventive modification, prompted Airbus to perform a new Fatigue and Damage Tolerance analysis with a refined model of the area with and without repair or preventive reinforcement before crack appearance. Based on the results of this analysis, Airbus revised the related Service Bulletins to introduce more restrictive thresholds and intervals for curative and preventive repair configuration.

EASA issued AD 2013-0014 [http://ad.easa.europa.eu/blob/easa_ad_2013_0214.pdf/AD_2013-0014_1], which superseded DGAC France AD 1992-049-130(B) and EASA AD 2008-0008, to mandate a new inspection programme [including related investigative and corrective actions].

After EASA AD 2013-0014 was issued, further analysis allowed to identify one A300 aeroplane model and one retrofitted A300 MSN [manufacturer serial number] missing in the applicability chapter.

For the reason described above, this [EASA] AD retains the requirements of EASA AD 2013-0014, which is superseded, and clarifies the Applicability section and adds one A300 model and one A300 MSN.

The unsafe condition is fatigue cracking, which could result in reduced structural integrity of the lower spar of the nacelle pylon. Related investigative actions include additional eddy current and liquid penetrant inspections for cracking. Corrective actions include repairing cracking. For certain cracking lengths, repairs are described as reinforcing the lower spar with a doubler. You may examine the MCAI in the AD docket on the Internet at http://www.regulations.gov by searching for and locating it in Docket No. FAA-2013-1066.

Relevant Service Information

Airbus has issued the following service bulletins. The actions described in these service bulletins are intended to correct the unsafe condition identified in the MCAI.

• Airbus Mandatory Service Bulletin A300-54-0071, Revision 04, dated April 11, 2013 (for Model A300 B2-203, B2K-3C, B4-103, B4-203, and B4-2C airplanes).

• Airbus Mandatory Service Bulletin A300-54-6011, Revision 03, dated June 23, 2011 (for Model A300 B4-620, B4-622, and B4-622R airplanes).

• Airbus Mandatory Service Bulletin A310-54-2016, Revision 06, dated January 16, 2013 (for Model A310-221, -222, -322, -324, and -325 airplanes).

The initial inspection compliance times for pre-repair and pre-modification airplanes range between 3,300 total flight cycles or 6,600 total flight hours, whichever occurs first; and 9,000 total flight cycles; depending on airplane configuration. The repetitive inspection interval is 2,300 flight cycles or 4,700 flight hours, whichever occurs first; or 2,500 flight cycles, depending on airplane configuration.

The inspection compliance times for post-modification airplanes range between 5,100 total flight cycles and 10,200 total flight hours, whichever occurs first after the modification; and between 12,300 and 15,700 total flight hours, whichever occurs later after the modification; depending on airplane configuration. The repetitive inspection interval ranges between 8,700 total flight cycles and 9,800 total flight hours, whichever occurs first; and between 12,200 total flight cycles and 23,400 total flight hours, whichever occurs first; depending on airplane configuration.

The inspection compliance times for post-repair airplanes range between 2,100 flight cycles and 6,900 flight hours, whichever occurs first after the repair; and between 7,600 flight cycles and 13,600 flight hours, whichever occurs later after the repair; depending on airplane configuration. The repetitive inspection interval ranges between 2,100 flight cycles and 2,700 flight hours, whichever occurs first; and between 4,300 flight cycles and 14,700 flight hours, whichever occurs first; depending on airplane configuration.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

In many FAA transport ADs, when the service information specifies to contact the manufacturer for further instructions if certain discrepancies are found, we typically include in the AD a requirement to accomplish the action using a method approved by either the FAA or the State of Design Authority (or its delegated agent).

We have recently been notified that certain laws in other countries do not allow such delegation of authority, but some countries do recognize design approval organizations. In addition, we have become aware that some U.S. operators have used repair instructions that were previously approved by a State of Design Authority or a Design Approval Holder (DAH) as a method of compliance with this provision in FAA ADs. Frequently, in these cases, the previously approved repair instructions come from the airplane structural repair manual or the DAH repair approval statements that were not specifically developed to address the unsafe condition corrected by the AD. Using repair instructions that were not specifically approved for a particular AD creates the potential for doing repairs that were not developed to address the unsafe condition identified by the MCAI AD, the FAA AD, or the applicable service information, which could result in the unsafe condition not being fully corrected.

To prevent the use of repairs that were not specifically developed to correct the unsafe condition, this proposed AD would require that the repair approval specifically refer to the FAA AD. This change is intended to clarify the method of compliance and to provide operators with better visibility of repairs that are specifically developed and approved to correct the unsafe condition. In addition, we use the phrase “its delegated agent, or by the DAH with State of Design Authority design organization approval, as applicable” in this proposed AD to refer to an DAH authorized to approve required repairs for this proposed AD.

Differences Between This Proposed AD and the MCAI or Service Information

Although the MCAI and Airbus service information allow further flight after cracks are found during compliance with the required action, the new actions of this proposed AD would not permit further flight if cracks are detected in the lower nacelle pylon spar. We have determined that, because of the safety implications and consequences associated with that cracking, any cracked lower pylon spar must be repaired or modified before further flight. This difference has been coordinated with the EASA.

Costs of Compliance

We estimate that this proposed AD affects 91 airplanes of U.S. registry.

The actions that are required by AD 2000-12-12, Amendment 39-11790 (65 FR 39072, June 23, 2000), and retained in this proposed AD take about 4 work-hours per product, at an average labor rate of $85 per work-hour. Based on these figures, the estimated cost of the actions that were required by AD 2000-12-12 is $340 per product.

We also estimate that it would take about 12 work-hours per product to comply with the basic requirements of this proposed AD. The average labor rate is $85 per work-hour. Based on these figures, we estimate the cost of this proposed AD on U.S. operators to be $92,820, or $1,020 per product.

In addition, we estimate that any necessary follow-on actions would take about 60 work-hours and require parts costing $1,680, for a cost of $6,780 per product. We have no way of determining the number of aircraft that might need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This proposed regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2000-12-12, Amendment 39-11790 (65 FR 39072, June 23, 2000), and adding the following new AD:

Airbus: Docket No. FAA-2013-1066; Directorate Identifier 2013-NM-021-AD.

(a) Comments Due Date

We must receive comments by February 13, 2014.

(b) Affected ADs

This AD supersedes AD 2000-12-12, Amendment 39-11790 (65 FR 39072, June 23, 2000).

(c) Applicability

This AD applies to the Airbus airplanes identified in paragraphs (c)(1) through (c)(4) of this AD, certificated in any category.

(1) Airbus Model A300 B2-203, B2K-3C, B4-103, B4-203, and B4-2C airplanes on which Airbus modification 2434 has been embodied in production.

(2) Airbus Model A300 airplane having manufacturer serial number 125, on the left hand side pylon only.

(3) Airbus Model A300 B4-620, B4-622R, and B4-622 airplanes, except for airplanes on which Airbus Modification 10149 has been embodied in production.

(4) Airbus Model A310-221, -222, -322, -324, and -325 airplanes, except for airplanes on which Airbus Modification 10149 has been embodied in production.

(d) Subject

Air Transport Association (ATA) of America Code 54, Nacelles/pylons.

(e) Reason

This AD was prompted by reports of cracking of the lower nacelle pylon spar after accomplishing an existing modification. We are issuing this AD to detect and correct fatigue cracking, which could result in reduced structural integrity of the lower spar of the nacelle pylon.

(f) Compliance

You are responsible for having the actions required by this AD performed within the compliance times specified, unless the actions have already been done.

(g) Retained Inspection and Corrective Action for Certain A300 Series Airplanes

This paragraph restates the requirements of paragraph (a) of AD 2000-12-12, Amendment 39-11790 (65 FR 39072, June 23, 2000), with revised repair instructions. For Model A300 B4-2C, B2K-3C, B2-203, B4-103, and B4-203 series airplanes: Prior to the accumulation of 9,000 total landings, or within 500 landings after June 12, 1995 (the effective date of AD 95-10-03, Amendment 39-9220 (60 FR 25604, May 12, 1995)), whichever occurs later, perform an internal eddy current inspection to detect cracks in the lower spar axis of the pylon between ribs 9 and 10, in accordance with Airbus Industrie Service Bulletin A300-54-071, dated November 12, 1991; or Revision 1, dated October 15, 1993. Accomplishment of an inspection required by paragraph (k), (l), or (m) of this AD terminates the inspection requirements of this paragraph.

(1) If no crack is found, repeat the inspection thereafter at intervals not to exceed 2,500 landings.

(2) If any crack is found that is less than or equal to 30 millimeters (mm): Perform subsequent inspections and repair in accordance with the methods and times specified in Airbus Industrie Service Bulletin A300-54-071, dated November 12, 1991; or Revision 1, dated October 15, 1993.

(3) If any crack is found that is greater than 30 mm, but less than 100 mm: Before further flight, repair in accordance with a method approved by the Manager, International Branch, ANM-116, FAA, Transport Airplane Directorate; or the European Aviation Safety Agency (EASA) (or its delegated agent, or the Design Approval Holder with EASA design organization approval, as applicable). For a repair method to be approved, the repair approval must specifically refer to this AD.

(4) If any crack is found that is greater than or equal to 100 mm: Prior to further flight, repair in accordance with a method approved by the Manager, International Branch, ANM-116; or EASA (or its delegated agent, or the Design Approval Holder with EASA design organization approval, as applicable). For a repair method to be approved, the repair approval must specifically refer to this AD.

(5) Accomplishment of the modification specified in Airbus Industrie Service Bulletin A300-54-0079, dated October 15, 1993, constitutes terminating action for the inspections required by paragraph (g) of this AD.

(h) Retained Inspection and Corrective Action for Model A300-600 Series Airplanes

This paragraph restates the requirements of paragraph (b) of AD 2000-12-12, Amendment 39-11790 (65 FR 39072, June 23, 2000), with revised repair instructions. For Model A300-600 B4-620, C4-620, B4-622R, and B4-622 series airplanes: Except as provided by paragraph (h)(5) of this AD, prior to the accumulation of 4,000 total landings, or within 500 landings after June 12, 1995 (the effective date of AD 95-10-03, Amendment 39-9220 (60 FR 25604, May 12, 1995)), whichever occurs later, perform an internal eddy current inspection to detect cracks in the lower spar axis of the pylon between ribs 9 and 10, in accordance with Airbus Industrie Service Bulletin A300-54-6011, dated November 12, 1991, as amended by Airbus Industrie Service Bulletin Change Notice O.A., dated July 10, 1992; or Revision 1, dated October 15, 1993. Accomplishment of an inspection required by paragraph (k), (l), or (m) of this AD terminates the inspection requirements of this paragraph.

(1) If no crack is found, repeat the inspection thereafter at intervals not to exceed 2,500 landings.

(2) If any crack is found that is less than or equal to 30 mm: Perform subsequent inspections and repair in accordance with the methods and times specified in Airbus Industrie Service Bulletin A300-54-6011, dated November 12, 1991, as amended by Airbus Industrie Service Bulletin Change Notice O.A., dated July 10, 1992; or Revision 1, dated October 15, 1993.

(3) If any crack is found that is greater than 30 mm, but less than 100 mm: Before further flight, repair in accordance with a method approved by the Manager, International Branch, ANM-116; or the European Aviation Safety Agency (EASA) (or its delegated agent, or the Design Approval Holder with EASA design organization approval, as applicable). For a repair method to be approved, the repair approval must specifically refer to this AD.

(4) If any crack is found that is greater than or equal to 100 mm: Prior to further flight, repair in accordance with a method approved by the Manager, International Branch, ANM-116; or the European Aviation Safety Agency (EASA) (or its delegated agent, or the Design Approval Holder with EASA design organization approval, as applicable). For a repair method to be approved, the repair approval must specifically refer to this AD.

(5) Accomplishment of the modification specified in Airbus Industrie Service Bulletin A300-54-6019, dated October 15, 1993, increases the threshold and repetitive interval of the inspections required by paragraph (h) of this AD to the threshold and interval specified in paragraph 2.D. of the Accomplishment Instructions of Airbus Industrie Service Bulletin A300-54-6011, Revision 1, dated October 15, 1993.

(i) Retained Inspection and Corrective Action for Model A310 Series Airplanes

This paragraph restates the requirements of paragraph (c) of AD 2000-12-12, Amendment 39-11790 (65 FR 39072, June 23, 2000), with revised repair instructions. For Model A310-221, -222, -322, -324, and -325 series airplanes: Perform an internal eddy current inspection to detect cracks in the lower spar axis of the pylon between ribs 9 and 10, in accordance with Airbus Industrie Service Bulletin A310-54-2016, dated November 12, 1991; or Revision 1, dated October 15, 1993; or Revision 02, dated June 11, 1999; at the time specified in paragraph (j) of this AD. Accomplishment of an inspection required by paragraph (k), (l), or (m) of this AD terminates the inspection requirements of this paragraph.

(1) If no crack is found, repeat the inspection thereafter at intervals not to exceed 2,500 landings.

(2) If any crack is found that is less than or equal to 30 mm: Perform subsequent inspections and repair in accordance with the methods and times specified in Airbus Industrie Service Bulletin A310-54-2016, dated November 12, 1991; or Revision 1, dated October 15, 1993; or Revision 02, dated June 11, 1999.

(3) If any crack is found that is greater than 30 mm, but less than 100 mm: Before further flight, repair in accordance with a method approved by the Manager, International Branch, ANM-116; or the European Aviation Safety Agency (EASA) (or its delegated agent, or the Design Approval Holder with EASA design organization approval, as applicable). For a repair method to be approved, the repair approval must specifically refer to this AD.

(4) If any crack is found that is greater than or equal to 100 mm: Prior to further flight, repair in accordance with a method approved by the Manager, International Branch, ANM-116; or the European Aviation Safety Agency (EASA) (or its delegated agent, or the Design Approval Holder with EASA design organization approval, as applicable). For a repair method to be approved, the repair approval must specifically refer to this AD.

(5) Accomplishment of the modification specified in Airbus Industrie Service Bulletin A310-54-2022, dated October 15, 1993; or Revision 01, dated March 16, 1999; increases the threshold and repetitive interval of the inspections required by paragraph (i) of this AD to the threshold and interval specified in paragraph 2.D. of the Accomplishment Instructions of Airbus Industrie Service Bulletin A310-54-2016, Revision 02, dated June 11, 1999.

(j) Retained Compliance Time for Paragraph (i) of This AD

This paragraph restates the requirements of paragraph (d) of AD 2000-12-12, Amendment 39-11790 (65 FR 39072, June 23, 2000), with no changes. Perform the initial inspection required by paragraph (i) of this AD at the earlier of the times specified by paragraphs (j)(1) and (j)(2) of this AD.

(1) Prior to the accumulation of 25,000 total landings, or within 500 landings after June 12, 1995 (the effective date of AD 95-10-03, Amendment 39-9220 (60 FR 25604, May 12, 1995), whichever occurs later.

(2) At the applicable time specified by paragraph (j)(2)(i), (j)(2)(ii), or (j)(2)(iii) of this AD.

(i) For airplanes that have accumulated fewer than 10,000 landings as of July 28, 2000 (the effective date of AD 2000-12-12, Amendment 39-11790 (65 FR 39072, June 23, 2000)): Perform the inspection prior to the accumulation of 3,800 total landings, or within 1,500 landings after July 28, 2000, whichever occurs later.

(ii) For airplanes that have accumulated 10,000 total landings or more, but fewer than 20,000 total landings, as of July 28, 2000 (the effective date of AD 2000-12-12, Amendment 39-11790 (65 FR 39072, June 23, 2000)): Perform the inspection within 1,000 landings after July 28, 2000.

(iii) For airplanes that have accumulated 20,000 total landings or more as of July 28, 2000 (the effective date of AD 2000-12-12, Amendment 39-11790 (65 FR 39072, June 23, 2000)): Perform the inspection within 500 landings after July 28, 2000.

(k) New Repetitive Inspections for Cracking

(1) For airplanes identified in paragraph (k)(2) of this AD: Except as provided by paragraphs (n)(1) and (n)(4) of this AD, at the applicable compliance time specified in paragraph 1.E.(2), “Compliance,” of the applicable service bulletin specified in paragraph (k)(1)(i), (k)(1)(ii), or (k)(1)(iii) of this AD or within 100 flight cycles after the effective date of this AD, whichever occurs later, do an eddy current inspection or liquid penetrant inspection for cracking of the lower spar of the pylon between ribs 9 and 10; and do all applicable related investigative and corrective actions; in accordance with the Accomplishment Instructions of the applicable service bulletin specified in paragraph (k)(1)(i), (k)(1)(ii), or (k)(1)(iii) of this AD, except as required by paragraphs (n)(2) and (n)(3) of this AD. Do all applicable related investigative and corrective actions before further flight. Repeat the inspection of the lower spar of the pylon between ribs 9 and 10 thereafter at intervals not to exceed the applicable interval specified in paragraph 1.E.(2), “Compliance,” of the applicable service bulletin specified in paragraph (k)(1)(i), (k)(1)(ii), or (k)(1)(iii) of this AD. Accomplishment of corrective actions required by this paragraph terminates the repetitive inspections required by this paragraph. Accomplishment of an inspection required by this paragraph terminates the inspection requirements of paragraphs (g), (h), and (i) of this AD. Accomplishment of the optional modification specified in the applicable service bulletin specified in paragraph (k)(1)(i), (k)(1)(ii), or (k)(1)(iii) of this AD terminates the repetitive inspections required by this paragraph.

(i) Airbus Mandatory Service Bulletin A300-54-0071, Revision 04, dated April 11, 2013 (for Model A300 B2-203, B2K-3C, B4-103, B4-203, and B4-2C airplanes).

(ii) Airbus Mandatory Service Bulletin A310-54-2016, Revision 06, dated January 16, 2013 (for Model A310-221, -222, -322, -324, and -325 airplanes).

(iii) Airbus Mandatory Service Bulletin A300-54-6011, Revision 03, dated June 23, 2011 (for Model A300 B4-620, B4-622R, and B4-622 airplanes).

(2) For airplanes that have not been modified or repaired with a doubler as specified in the applicable service bulletin specified in paragraph (k)(2)(i), (k)(2)(ii), or (k)(2)(iii) of this AD, do the inspections required by paragraph (k)(1) of this AD.

(i) Airbus Service Bulletin A300-54-0079 (for Model A300 B2-203, B2K-3C, B4-103, B4-203, and B4-2C airplanes).

(ii) Airbus Service Bulletin A310-54-2022 (for Model A310-221, -222, -322, -324, and -325 airplanes).

(iii) Airbus Service Bulletin A300-54-6019 (for Model A300 B4-620, B4-622R, and B4-622 airplanes).

(l) New Repetitive Inspections for Post-Repair Airplanes

For airplanes that have been repaired with a doubler as specified in the applicable Airbus service bulletin specified in paragraph (k)(1)(i), (k)(1)(ii), or (k)(1)(iii) of this AD: At the applicable compliance time specified in paragraph 1.E.(2), “Compliance,” in the applicable service bulletin specified in paragraph (k)(1)(i), (k)(1)(ii), or (k)(1)(iii) of this AD, except as specified in paragraph (n)(1) and (n)(4) of this AD: Do an eddy current inspection or liquid penetrant inspection for cracking of the lower spar of the pylon between ribs 9 and 10, and do all applicable corrective actions, in accordance with the Accomplishment Instructions of the applicable service bulletin specified in paragraph (k)(1)(i), (k)(1)(ii), or (k)(1)(iii) of this AD, except as required by paragraph (n)(2) of this AD. Do all applicable corrective actions before further flight. Repeat the inspection of the lower spar of the pylon between ribs 9 and 10 thereafter at intervals not to exceed the applicable interval specified in paragraph 1.E.(2), “Compliance,” of the applicable service bulletin specified in in paragraph (k)(1)(i), (k)(1)(ii), or (k)(1)(iii) of this AD. Accomplishment of an inspection required by this paragraph terminates the inspection requirements of paragraphs (g), (h), and (i) of this AD.

(m) New Repetitive Inspections for Post-Modification Airplanes

For airplanes that have been modified as specified in the applicable Airbus service bulletin specified in paragraph (k)(1)(i), (k)(1)(ii), or (k)(1)(iii): At the applicable compliance time specified in paragraph 1.E.(2), “Compliance,” in the applicable service bulletin specified in paragraph (k)(1)(i), (k)(1)(ii), or (k)(1)(iii) of this AD, except as specified in paragraph (n)(1) and (n)(4) of this AD: Do an eddy current inspection or liquid penetrant inspection for cracking of the lower spar of the pylon between ribs 9 and 10; and do all applicable corrective actions; in accordance with the Accomplishment Instructions of the applicable service bulletin specified in paragraph (k)(1)(i), (k)(1)(ii), or (k)(1)(iii) of this AD, except as required by paragraph (n)(2) of this AD. Do all applicable corrective actions before further flight. Repeat the inspection of the lower spar of the pylon between ribs 9 and 10 thereafter at intervals not to exceed the applicable interval specified in paragraph 1.E.(2), “Compliance,” of the applicable service bulletin specified in in paragraph (k)(1)(i), (k)(1)(ii), or (k)(1)(iii) of this AD. Accomplishment of an inspection required by this paragraph terminates the inspection requirements of paragraphs (g), (h), and (i) of this AD.

(n) New Service Bulletin Exceptions

(1) Where the service bulletins specified in paragraphs (k)(1)(i), (k)(1)(ii), and (k)(1)(iii) of this AD specify a compliance time “from the publication date,” this AD requires compliance within the specified compliance time after the effective date of this AD.

(2) If any crack is detected during any inspection required by paragraph (k), (l), or (m) of this AD, and the service bulletin specified in paragraph (k)(1)(i), (k)(1)(ii), or (k)(1)(iii) of this AD specifies to contact the manufacturer: Before further flight, repair the cracking using a method approved by the Manager, International Branch, ANM-116, Transport Airplane Directorate, FAA; or the European Aviation Safety Agency (EASA) (or its delegated agent, or by the Design Approval Holder (DAH) with the EASA design organization approval). For a repair method to be approved, the repair approval must specifically refer to this AD.

(3) Where the service bulletins specified in paragraphs (k)(1)(i), (k)(1)(ii), and (k)(1)(iii) of this AD specify to contact the manufacturer for inspection requirements: inspect using a method approved by the Manager, International Branch, ANM-116, Transport Airplane Directorate, FAA; or the EASA (or its delegated agent, or by the DAH with the EASA design organization approval). For an inspection method to be approved, the approval must specifically refer to this AD.

(4) Where the “Threshold” column in the tables in paragraph 1.E., “Compliance,” of the service bulletins specified in paragraphs (k)(1)(i), (k)(1)(ii), and (k)(1)(iii) of this AD specifies a compliance time in flight cycles/flight hours, this AD requires compliance within the corresponding time in total flight cycles/total flight hours; except for tables for post-repair and post-modification airplanes, this AD requires compliance within the corresponding time after accomplishing the repair or modification.

(o) Credit for Previous Actions

This paragraph provides credit for actions required by paragraph (k) of this AD, if those actions were performed before the effective date of this AD using the applicable service bulletin specified in paragraphs (o)(1) through (o)(4) of this AD.

(1) Airbus Mandatory Service Bulletin A300-54-0071, Revision 02, dated August 25, 2000 (for Model A300 B2-203, B2K-3C, B4-103, B4-203, and B4-2C airplanes), which is not incorporated by reference in this AD.

(2) Airbus Mandatory Service Bulletin A300-54-0071, Revision 03, dated October 5, 2012 (for Model A300 B2-203, B2K-3C, B4-103, B4-203, and B4-2C airplanes), which is not incorporated by reference in this AD.

(3) Airbus Mandatory Service Bulletin A310-54-2016, Revision 04, dated November 16, 2007; or Airbus Mandatory Service Bulletin A310-54-2016, Revision 05, dated October 5, 2012 (for Model A310-221, -222, -322, -324, and -325 airplanes), which are not incorporated by reference in this AD.

(4) Airbus Mandatory Service Bulletin A300-54-6011, Revision 02, dated August 25, 2000 (for Model A300 B4-620, B4-622R, and B4-622 airplanes), which is not incorporated by reference in this AD.

(p) Other FAA AD Provisions

The following provisions also apply to this AD:

(1) Alternative Methods of Compliance (AMOCs): The Manager, International Branch, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone (425) 227-2125; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer, use these actions if they are FAA-approved. Corrective actions are considered FAA-approved if they were approved by the State of Design Authority (or its delegated agent, or by the Design Approval Holder with a State of Design Authority's design organization approval). For a repair method to be approved, the repair approval must specifically refer to this AD. You are required to ensure the product is airworthy before it is returned to service.

(3) Previous AMOCs: AMOCs approved previously for AD 2000-12-12, Amendment 39-11790 (65 FR 39072, June 23, 2000), are approved as AMOCs for the corresponding provisions of this AD.

(q) Related Information

(1) Refer to Mandatory Continuing Airworthiness Information (MCAI) European Aviation Safety Agency Airworthiness Directive 2013-0216, dated September 17, 2013, for related information. This MCAI may be found in the AD docket on the Internet at http://www.regulations.gov by searching for and locating Docket No. FAA-2013-1066.

(2) For service information identified in this AD, contact Airbus SAS—EAW (Airworthiness Office), 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

Issued in Renton, Washington, on December 19, 2013.
Jeffrey E. Duven,
Acting Manager, Transport Airplane Directorate, Aircraft Certification Service.

[FR Doc. 2013-31186 Filed 12-27-13; 8:45 am]

BILLING CODE 4910-13-P